DEPARTMENT OF JUSTICE

Notice of Lodging of Consent Decree Under Comprehensive Environmental Response, Compensation and Liability Act

Under 28 CFR 50.7, notice is hereby given that on September 30, 2003, a proposed Consent Decree in United States v. Alliant Techsystems, Inc., Civil Action No. 03-4648, was lodged with the United States District Court for the District of New Jersey.

In this action the United States seeks the recovery of response costs incurred regarding the Radiation Technology Superfund Site, in Rockaway Township, New Jersey. The proposed consent decree embodies an agreement with Alliant Techsystems, Inc. (ATK) to perform the groundwater remedy at the Site and to reimburse the U.S. Environmental Protection Agency for up to $249,000 of its past response costs and for all oversight costs in connection with the performance of the remedy. The decree provides ATK with a covenant not to sue under Sections 106 and 107(a) of the Comprehensive Environmental Response, Compensation and Liability Act, 42 U.S.C. 9606 and 9607(a).

The Department of Justice will receive for a period of thirty (30) days from the date of this publication comments relating to the Consent Decree. Comments should be addressed to the Assistant Attorney General, Environment and Natural Resources Division, P.O. Box 7611, U.S. Department of Justice, Washington, DC 20044-7611, and should refer to United States v. Alliant Techsystems, Inc., D.J. No. 90-11-2-07691/1.

The Consent Decree may be examined at the Office of the United States Attorney, 970 Broad Street, Room 400, Newark, NJ 07102, and at the Region II Office of the U.S. Environmental Protection Agency, Region II Records Center, 290 Broadway, 17th Floor, New York, NY 10007-1866. During the public comment period, the Consent Decree also may be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $32.25 (25 cents per page reproduction cost) payable to U.S. Treasury.

Catherine R. McCabe,
Deputy Section Chief, Environmental Enforcement Section, Environment and Natural Resources Division.

[FR Doc. 03-27886 Filed 11-5-03; 8:45 am]

BILLING CODE 4410-15-M